DEPARTMENT OF THE TREASURY

Internal Revenue Service

Proposed Collection; Comment Request for Information Collection Tools

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13(44 U.S.C. 3506(c)(2)(A)). Currently, the IRS is soliciting comments concerning Forms W-2, W-2c, W-2AS, W-2GU, W-2VI, W-3, W-3c, W-3cPR, W-3PR, and W-3SS; Form 1120, U. S. Corp. Income Tax Return and its affiliated schedules; Form 4768, Application for Extension of Time To File a Return and/or Pay U.S. Estate (and Generation-Skipping Transfer) Taxes; Form 1139, Corporation Application for Tentative Refund; and Form 8038, Information Return for Tax-Exempt Private Activity Bond Issues, Form 8038-G, Information Return for Tax-Exempt Governmental Obligation, and Form 8038-GC, Information Return for Small Tax-Exempt Governmental Bond Issues, Leases, and Installment Sales.

DATES: Written comments should be received on or before May 31, 2013 to be assured of consideration.

ADDRESSES: Direct all written comments to Yvette Lawrence, Internal Revenue Service, room 6129, 1111 Constitution Avenue NW., Washington, DC 20224. Please send separate comments for each specific information collection listed below. You must reference the information collection's title, form number, reporting or record-keeping requirement number, and OMB number (if any) in your comment.

FOR FURTHER INFORMATION CONTACT: Requests for additional information or copies of the collection tools should be directed to R. Joseph Durbala, Internal Revenue Service, room 6129, 1111 Constitution Avenue NW., Washington, DC 20224, or at (202) 622-3634, or through the internet at RJoseph.Durbala@irs.gov.

SUPPLEMENTARY INFORMATION: Currently, the IRS is seeking comments concerning the following information collection tools, reporting, and record-keeping requirements:

(1) Title: W-2 (Wage and Tax Statement), W-2c (Corrected Wage and Tax Statement). W-2AS (American Samoa Wage and Tax Statement), W-2GU (Guam Wage and Tax Statement), W-2VI (U.S. Virgin Islands Wage and Tax Statement), W-3 (Transmittal of Wage and Tax Statements), W-3c (Transmittal of Corrected Wage and Tax Statements), W-3PR (Informe de Comprobantes de Retencion), W-3cPR (Transmission de Comprobantes de Retencion Corregidos), and W-3SS (transmittal of Wage and Tax Statements). OMB Number: 1545-0008.

Form Number: Forms W-2, W-2c, W-2AS, W-2GU, W-2VI, W-3, W-3c, W-3cPR, W-3PR, and W-3SS.

Abstract: Employers report income and withholding information on Form W-2. Forms W-2AS, W-2GU and W-2VI are variations of Form W-2 for use in U.S. possessions. The Form W-3 series is used to transmit W-2 series forms to the Social Security Administration. Forms W-2c, W-3c and W-3cPR are used to correct previously filed Forms W-2, W-3, and W-3PR. Individuals use Form W-2 to prepare their income tax returns.

Current Actions: There are no changes to the previously approved burden of this existing collection.

Type of Review: Extension of a currently approved collection.

Affected Public: Business or other for-profit organizations and individuals, or households, not-for-profit institutions, farms, and Federal, state local or tribal governments.

Estimated Number of Respondents: 253,007,121.

Estimated Time per Respondent: varies.

Estimated Total Annual Burden Hours: 1.

(2) Title: Form 1120-U. S. Corp. Income Tax Return, Schedule B-Additional Information for Schedule M-3 Filers, Schedule D-Capital Gains and Losses, Schedule G-Information of Certain Persons Owning the Corporation's Voting Stock, Schedule H-Section 280H Limitations for a Personal Service Corporation (PSC), Schedule M-3-Net Income (Loss) Reconciliation for Corporations with Total Assets of $10 Million or More, Schedule N-Foreign Operations of U.S. Corporations, Schedule O-Consent Plan and Apportionment Schedule for a Controlled Group, and Schedule PH-U.S. Personal Holding.

OMB Number: 1545-0123.

Form Number: 1120, Schedule B, Schedule D, Schedule G, Schedule H, Schedule M-3, Schedule N, Schedule O, and Schedule PH.

Abstract: Form 1120 is used by corporations to compute their taxable income and tax liability. Schedule D (Form 1120) is used by corporations to report gains and losses from the sale of capital assets. Schedule H (Form 1120) is used by personal service corporations to determine if they have met the minimum distribution requirements of section 280H. Schedule N (1120) is used by corporations that have assets in or business operations in a foreign country or a U.S. possession. Schedule O (Form 1120) will be used by corporations that are members of a controlled group to show the adoption, amendment, or termination of an apportionment plan. It will also be used to show the apportionment of taxable income, income tax, and other tax benefits for members of the controlled group. Schedule PH (Form 1120) is used by personal holding companies to figure the personal holding company tax under section 541. The IRS uses these forms to determine whether corporations have correctly computed their tax liability.

Current Actions: There are no changes being made to the revenue procedure at this time.

Type of Review: Extension of a currently approved collection.

Affected Public: Business, or other for-profit organizations and farms.

Estimated Number of Respondents: 5,775,633.

Estimated Time per Respondent: 89 hrs, 18 min.

Estimated Total Annual Reporting Burden hours: 354,465,880.

(3) Title: Application for Extension of Time To File a Return and/or Pay U.S. Estate (and Generation-Skipping Transfer) Taxes.

OMB Number: 1545-0181.

Form Number: 4768.

Abstract: Form 4768 is used to request an extension of time to file an estate (and generation-skipping) tax return and/or to pay the estate (and generation-skipping) taxes and to explain why the extension should be granted. IRS uses the information to decide whether the extension should be granted.

Current Actions: There is no change in the paperwork burden previously approved by OMB.

Type of Review: Extension of a currently approved collection.

Affected Public: Individuals and business or other for-profit organizations.

Estimated Number of Respondents: 18,500.

Estimated Time per Respondent: 1 hour 52 minutes.

Estimated Total Annual Burden Hours: 34,410.

(4) Title: Corporation Application for Tentative Refund.

OMB Number: 1545-0582.

Form Number: 1139.

Abstract: Form 1139 is filed by corporations that expect to have a net operating loss, net capital loss, or unused general business credits, carried back to a prior tax year. IRS uses Form 1139 to determine if the amount of the loss or unused credits is proper.

Current Actions: There is no change in the paperwork burden previously approved by OMB.

Type of Review: Extension of a currently approved collection.

Affected Public: Business or other for-profit organizations.

Estimated Number of Respondents: 3,750.

Estimated Time per Respondent: 44 hrs., 25 min.

Estimated Total Annual Burden Hours: 165,938.

(5) Title: Information Return for Tax-Exempt Private Activity Bond Issues (Form 8038), Information Return for Tax-Exempt Governmental Obligation (Form 8038-G), and Information Return for Small Tax-Exempt Governmental Bond Issues, Leases, and Installment Sales (Form 8038-GC).

OMB Number: 1545-0720.

Form Number: 8038, 8038-G, and 8038-GC.

Abstract: Issuers of state or local bonds must comply with certain information reporting requirements contained in Internal Revenue Code section 149 to qualify for tax exemption. The information must be reported by the issuers about bonds issued by them during each preceding calendar quarter. Forms 8038, 8038 G, and 8038 GC are used to provide the IRS with the information required by Code section 149 and to monitor the requirements of Code sections 141 through 150.

Current Actions: There is no change in the paperwork burden previously approved by OMB.

Type of Review: Extension of a currently approved collection.

Affected Public: State, Local or Tribal Governments and not-for-profit institutions.

Estimated Number of Respondents: 39,491.

Estimated Time per Respondent: 21 hours 4 minutes.

Estimated Total Annual Burden Hours: 831,714.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: March 19, 2013.
R. Joseph Durbala,
IRS Reports Clearance Officer.

[FR Doc. 2013-07561 Filed 3-29-13; 8:45 am]

BILLING CODE 4830-01-P